DEPARTMENT OF COMMERCE

National Oceanic and Atmospheric Administration

RIN 0648-XD986

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The NMFS Assistant Regional Administrator for Sustainable Fisheries, Greater Atlantic Region, has made a preliminary determination that an Exempted Fishing Permit application from the University of Rhode Island contains all of the required information and warrants further consideration. Regulations under the Magnuson-Stevens Fishery Conservation and Management Act and the Atlantic Coastal Fisheries Cooperative Management Act require publication of this notification to provide interested parties the opportunity to comment on Exempted Fishing Permit applications.

DATES: Comments must be received on or before July 9, 2015.

ADDRESSES: You may submit written comments by any of the following methods:

• Email: NMFS.GAR.EFP@noaa.gov. Include in the subject line “Comments on URI Bycatch Study EFP.”

• Mail: John K. Bullard, Regional Administrator, NMFS, Greater Atlantic Regional Fisheries Office, 55 Great Republic Drive, Gloucester, MA 01930. Mark the outside of the envelope “Comments on URI Bycatch Study EFP.”

FOR FURTHER INFORMATION CONTACT: Allison Murphy, Fishery Policy Analyst, 978-281-9122.

SUPPLEMENTARY INFORMATION: The University of Rhode Island (URI) submitted a complete application for an Exempted Fishing Permit (EFP) to conduct a 1-year lobster trap study that Federal regulations would otherwise restrict. The purpose of this study is to provide data on the effect of alternative escape vent designs on Jonah crab and lobster catch in an attempt to improve the retention of Jonah crabs while not increasing catch of sub-legal lobsters. This EFP proposes to test the modified vents over a wide range of Federal waters throughout Lobster Management Areas 2 and 3, covering statistical areas 515, 521, 526, 537, and 616 (see Figure 1).

BILLING CODE 3510-22-C

Site selection would be based on each vessel's commercial fishing habits. URI is conducting this study to field test laboratory hypotheses that vents smaller than the minimum 5¾-inch (14.61-cm) regulatory size will allow for greater retention of Jonah crab without increasing lobster mortality. This is in response to the development of a draft Interstate Fishery Management Plan for Jonah Crab that proposes a range of legal harvest width alternatives from no minimum size to 5.5 inches (13.97 cm). These proposed minimum sizes are smaller than the legal vent size length of 5¾ inches (14.61 cm) for Federal lobster gear. Funding for this lobster trap escape vent study is provided by a 2014 NOAA Bycatch Reduction Engineering Program grant.

URI is requesting exemptions from the following regulations to allow commercial lobster vessels to set, haul, and retain on-board the experimental traps:

• Trap limit requirements to allow each vessel to fish 15 traps more than each vessel's allocation,

• Gear specification requirements to allow for the use of smaller than required and closed escape vents, and

• Trap tag requirements to allow for untagged traps.

Each vessel will use five each of the three modified traps for sampling: Ventless; smaller vent length of 3½ inches (8.89 cm); and smaller vent length of 3 9/16 inches (9.05 inches).

The EFP would authorize participating vessels to deploy up to three modified traps within their normal trawl configuration, not to exceed a total deployment of 15 modified traps across all trawls, per vessel. Traps will be hauled during normal commercial fishing activity, at least bi-monthly over the course of six months, up to one year. Catch from modified traps will be held briefly on-board vessels to record measurements and sex of crabs and lobster, trap vent type, and soak time. After data are recorded, the applicant states that all catch from modified traps will be promptly discarded and no catch from modified traps would be retained for sale. All catch data would be collected by the vessel captain and crew.

If approved, URI may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 19, 2015.
Emily H. Menashes,
Acting Director, Office of Sustainable Fisheries, National Marine Fisheries Service.

[FR Doc. 2015-15522 Filed 6-23-15; 8:45 am]

BILLING CODE 3510-22-P